DEPARTMENT OF ENERGY

Federal Energy Regulatory Commission

Combined Notice of Filings #1

Take notice that the Commission received the following exempt wholesale generator filings:

Docket Numbers: EG13-27-000.

Applicants: NRG Energy, Inc.

Description: Notice of Long Beach Generation LLC for Self-Certification of Exempt Wholesale Generator Status.

Filed Date: 4/12/13.

Accession Number: 20130412-5189.

Comments Due: 5 p.m. ET 5/3/13.

Take notice that the Commission received the following electric rate filings:

Docket Numbers: ER13-786-001.

Applicants: PJM Interconnection, L.L.C.

Description: PJM Interconnection, L.L.C. submits Compliance filing per March 15, 2013 Order in ER13-786-000 to be effective 12/21/2012.

Filed Date: 4/15/13.

Accession Number: 20130415-5106.

Comments Due: 5 p.m. ET 5/6/13.

Docket Numbers: ER13-1281-000.

Applicants: Massachusetts Electric Company.

Description: Interconnection Agreement Between Massachusetts Electric Co. and Quarry Energy to be effective 4/12/2013.

Filed Date: 4/12/13.

Accession Number: 20130412-5195.

Comments Due: 5 p.m. ET 5/3/13.

Docket Numbers: ER13-1282-000.

Applicants: Midwest Independent Transmission System Operator, Inc.

Description: 04-15-2013 SA 2507 Sub J233 E&P to be effective 3/1/2013.

Filed Date: 4/15/13.

Accession Number: 20130415-5055.

Comments Due: 5 p.m. ET 5/6/13.

Docket Numbers: ER13-1283-000.

Applicants: ITC Midwest LLC.

Description: Filing of CIAC Agreement of ITC Midwest to be effective 6/17/2013.

Filed Date: 4/15/13.

Accession Number: 20130415-5057.

Comments Due: 5 p.m. ET 5/6/13.

Docket Numbers: ER13-1284-000.

Applicants: ITC Midwest LLC.

Description: ITC Midwest LLC submits Filing of CIAC Agreement of ITC Midwest to be effective 5/31/2013.

Filed Date: 4/15/13.

Accession Number: 20130415-5085.

Comments Due: 5 p.m. ET 5/6/13.

Take notice that the Commission received the following electric securities filings:

Docket Numbers: ES13-19-000.

Applicants: AEP Texas Central Company.

Description: Application of AEP Texas Central Company under Section 204 of the Federal Power Act for Authorization to Issue Securities.

Filed Date: 4/15/13.

Accession Number: 20130415-5081.

Comments Due: 5 p.m. ET 5/6/13.

Take notice that the Commission received the following open access transmission tariff filings:

Docket Numbers: OA07-19-009; OA07-43-010; ER07-1171-010.

Applicants: Arizona Public Service Company.

Description: Arizona Public Service Company submits its annual compliance report on penalty assessments and distributions.

Filed Date: 04/12/2013.

Accession Number: 20130412-5206.

Comments Due: 5 p.m. ET 5/3/13.

Docket Numbers: OA07-39-009; OA08-71-009.

Applicants: Public Service Company of Colorado.

Description: Public Service Company of Colorado submits its annual compliance report on penalty assessments and distributions under OA07-39, et al.

Filed Date: 4/12/13.

Accession Number: 20130412-5216.

Comments Due: 5 p.m. ET 5/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2013.
Nathaniel J. Davis, Sr.,
Deputy Secretary.

[FR Doc. 2013-09352 Filed 4-19-13; 8:45 am]

BILLING CODE 6717-01-P